DEPARTMENT OF LABOR

Employment and Training Administration

[TA-W-55,034]

Android Industries, Lordstown LLC, Vienna, Ohio; Notice of Termination of Investigation

Pursuant to section 221 of the Trade Act of 1974, as amended, an investigation was initiated on October 14, 2003, in response to a petition filed on by a company official on behalf of workers of Android Industries, Lordstown LLC, Vienna, Ohio.

The petitioner has requested that the petition be withdrawn. Consequently, the investigation has been terminated.

Signed at Washington, DC, this 18th day of June, 2004.
Richard Church,
Certifying Officer, Division of Trade Adjustment Assistance.

[FR Doc. 04-15316 Filed 7-6-04; 8:45 am]

BILLING CODE 4510-30-P